ENVIRONMENTAL PROTECTION AGENCY

[EPA-HQ-OPPT-2016-0020; FRL-9943-49]

Certain New Chemicals; Receipt and Status Information for January 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from January 4, 2016 to January 29, 2016.

DATES: Comments identified by the specific case number provided in this document, must be received on or before April 15, 2016.

ADDRESSES: Submit your comments, identified by docket identification (ID) number EPA-HQ-OPPT-2016-2016-0020, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from January 4, 2016 to January 29, 2016, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 37 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From January 4, 2016 to January 29, 2016
Case No. | Date received | Projected end date for EPA review | Manufacturer/ importer | Use(s) | Chemical identity
P-16-0040 | 1/4/2016 | 4/3/2016 | CBI | (G) Polymer | (G) Tar acids fraction.
P-16-0157 | 1/11/2016 | 4/10/2016 | CBI | (G) Fabric treatment | (G) Fluorinated polyurethane.
P-16-0163 | 1/4/2016 | 4/3/2016 | Gelest | (S) Used as a modifier for polymeric systems to make specialty coatings, etc., in automotive fuel lines and other parts, coatings for microelectronic housing, industrial and oil and gas equipment; the amount of the new substance is estimated to be about 20mg per square meter | (S) Silsesquioxanes, 3,3,4,4,5,5,6,6,7,7,8,8,8-tridecafluorooctyl-.
P-16-0164 | 1/4/2016 | 4/3/2016 | CBI | (G) Processing aid | (G) Thiocarbamic acid derivative.
P-16-0167 | 1/6/2016 | 4/5/2016 | CBI | (S) Light stabilizer for plastic articles | (G) Hindered amine alkyl ester compounds.
P-16-0168 | 1/6/2016 | 4/5/2016 | CBI | (S) Processing aid for thermoplastics | (G) Acrylic polymer.
P-16-0169 | 1/6/2016 | 4/5/2016 | Weylchem US, Inc | (S) Reactant in reaction | (S) Thiourea, n-[2,6-bis(1-methylethyl)-4-phenoxyphenyl]-.
P-16-0170 | 1/8/2016 | 4/7/2016 | CBI | (G) (C) Open non-dispersive: The nanocarbon is used in a water-based liquid admixture once the carbon is mixed in the liquid (and in downstream materials), it is no longer a respiratory hazard, the admixture is used by the concrete industry to densify the cement matrix of concrete enhancing the materials performance—mainly in strength and abrasion resistance | (G) Nanocarbon.
P-16-0171 | 1/11/2016 | 4/10/2016 | CBI | (S) Raw material used in the manufacture of ultra violet curable inks and coatings | (G) Acrylic polymer.
P-16-0172 | 1/12/2016 | 4/11/2016 | CBI | (G) Open, non-dispersive use | (G) 1,3-propanediol, 2,2-dimethyl-, polymer with diisocyanatoalkane, dialkyl heteromonocycle-blocked.
P-16-0173 | 1/12/2016 | 4/11/2016 | CBI | (G) Printing ink vehicles | (G) Aminoalkyl alaninate sodium salt (1:1), polymer with alkyldiol, dialkyl-alkanediol, alkyldioic acid, alkyldiol, polyol, cycloaliphatic diisocyanate, polyalkylene glycol mono-alkyl ether-blocked.
P-16-0174 | 1/13/2016 | 4/12/2016 | Itaconix Corp | (S) Chelant in detergents | (S) Butanedioic acid, 2-methylene-, telomer with phosphinic acid and sodium 4-ethenylbenzenesulfonate (1:1), sodium salt.
P-16-0175 | 1/12/2016 | 4/11/2016 | CBI | (G) Pump oil | (G) Alkyl substituted cabopolycycle.
P-16-0176 | 1/13/2016 | 4/12/2016 | Organic Dyestuffs Corporation | (S) Reactive dye for cotton | (S) Benzoic acid, 2-[[4-chloro-6-[[8-hydroxy-7—[2-(4-methoxyphenyl) diazenyl]-3,6-disulfo-1-naphthalenyl] amino]-1,3,5-triazin-2-yl] amino-4-sulfo-, sodium salt (1:4).
P-16-0178 | 1/13/2016 | 4/12/2016 | CBI | (G) Paint additive | (G) This information will be provided by the foreign manufacturer of the new chemical substance in a letter of support.
P-16-0179 | 1/14/2016 | 4/13/2016 | CBI | (G) Grease | (G) Alkanoic acids, esters with alkanetriol.
P-16-0180 | 1/14/2016 | 4/13/2016 | CBI | (S) Component of industrial and maintenance coatings | (G) Isocyanic acid, polymethylenepolyphenylene ester, polymer with a-hydro-w-hydroxypoly[oxy(methyl-1,2-ethanediyl)] and alkylene oxide polymer, alkylamine initiated.
P-16-0181 | 1/14/2016 | 4/13/2016 | CBI | (S) Stabilizer for use with polymers | (G) Butenoic acid, thio-ethanediyl ester.
P-16-0182 | 1/15/2016 | 4/14/2016 | Huntsman International, LLC | (G) Open, non-dispersive resins use | (S) Manganese, tris[.mu.-(2-ethylhexanoato-.kappa.o:.kappa.o')]bis(octahydro-1,4,7-trimethyl-1h-1,4,7-triazonine-*.kappa.n1,.kappa.n4,.kappa.n7)-manganese, [.mu.-(acetato-.kappa.o:.kappa.o')]bis[-(2-ethylhexanoato-o:o')]bis(octahydro-1,4,7-trimethyl-1h-1,4,7-triazonine.kappa.n1,.kappa.n4,.kappa.n7)-manganese, bis[.mu.-(acetato-.kappa.o:.kappa.o')][-(2-ethylhexanoato-o:o')]bis(octahydro-1,4,7-trimethyl-1h-1,4,7-triazonine-.kappa.n1,.kappa.n4,.kappa.n7)-manganese, tris[.mu.-(acetato-.kappa.o:.kappa.o')]bis(octahydro-1,4,7-trimethyl-1h-1,4,7-triazonine-.kappa.n1,.kappa.n4,.kappa.n7)-.
P-16-0183 | 1/14/2016 | 4/13/2016 | CBI | (S) Corrosion inhibitor for use in metal working fluids | (G) Fatty acid homopolymer salt.
P-16-0184 | 1/15/2016 | 4/14/2016 | CBI | (S) Mixture of polyester carboxylates used as a wetting and dispersing agent for inorganic pigments and fillers in industrial and decorative coatings | (G) Mixture of polyester carboxylates.
P-16-0185 | 1/15/2016 | 4/14/2016 | Intertek Health, Environmental & Regulatory Services | (G) Component in chemical manufacture | (G) Rosin ester.
P-16-0187 | 1/18/2016 | 4/17/2016 | CBI | (G) Organic light-emitting diode material | (G) Amine-alkyl-polyaromatic hydrocarbon polymer.
P-16-0188 | 1/19/2016 | 4/18/2016 | CBI | (G) Component of manufactured consumer article—contained use | (G) Substituted carbocycle, n-[[[4-[[(4-substituted carbocyclic)amino]sulfonyl]carbocyclic]amino]carbonyl]-4-methyl-.
P-16-0189 | 1/19/2016 | 4/18/2016 | Honeyol, Inc | (S) Use in production of resins (raw material used in the production of resins) | (S) Tar acids, (shale oil), c6-9 fraction.
P-16-0190 | 1/19/2016 | 4/18/2016 | CBI | (G) Lubricant | (G) Aryl polyolefin.
P-16-0191 | 1/22/2016 | 4/21/2016 | The Shepherd Color Company | (G) Pigment for anti-corrosive paints | (S) Aluminum vanadium zinc hydroxide oxide.
P-16-0192 | 1/24/2016 | 4/23/2016 | Evonik Corporation | (S) Reinforcing filler coupling agent for production of tire/rubber goods | (G) Silanized amorphous silica.
P-16-0194 | 1/28/2016 | 4/27/2016 | CBI | (G) Process aid | (G) Silane-treated aluminosilicate.
P-16-0195 | 1/28/2016 | 4/27/2016 | CBI | (G) Process aid | (G) Silane-treated aluminosilicate.
P-16-0196 | 1/28/2016 | 4/27/2016 | CBI | (G) Process aid | (G) Silane-treated aluminosilicate.
P-16-0197 | 1/28/2016 | 4/27/2016 | CBI | (G) Process aid | (G) Silane-treated aluminosilicate.
P-16-0198 | 1/28/2016 | 4/27/2016 | CBI | (G) Process aid | (G) Silane-treated aluminosilicate.
P-16-0199 | 1/28/2016 | 4/27/2016 | CBI | (G) Process aid | (G) Silane-treated aluminosilicate.
P-16-0205 | 1/4/2016 | 4/3/2016 | CBI | (G) Lubricant oil | (G) Amide.
P-16-0205 | 1/4/2016 | 4/3/2016 | CBI | (S) General industrial oil | (G) Amide.
P-16-0205 | 1/4/2016 | 4/3/2016 | CBI | (S) Hydraulic oil | (G) Amide.

For the 25 NOCs received by EPA during this period, Table 2 provides the following information (to the extent that such information is not claimed as CBI): The EPA case number assigned to the NOC; the date the NOC was received by EPA; the projected date of commencement provided by the submitter in the NOC; and the chemical identity.

Table 2—NOCs Received From January 4, 2016 to January 29, 2016
Case No. | Date received | Projected date of commencement | Chemical identity
P-13-0944 | 1/14/2016 | 12/16/2015 | (S) 5-isobenzofurancarboxylic acid, 1,3-dihydro-1,3-dioxo-,polymer with 2-aminoethanol, 2,2-dimethyl-1,3-propanediol, 2,5-furandione and 3a,4,7,7a-tetrahydro-1,3-isobenzofurandione.
P-14-0300 | 1/6/2016 | 12/8/2015 | (G) Substituted polysiloxane.
P-14-0377 | 1/15/2016 | 1/13/2016 | (G) Reaction product of acidic polymers with amino silanes.
P-14-0499 | 1/8/2016 | 8/12/2015 | (G) Methacrylic acid, polymer with butyl methacrylate, substituted acrylamide, styrene, methyl methacrylate and substituted ethyl methacrylate.
P-14-0563 | 1/26/2016 | 12/30/2015 | (G) Quaternary alkyl methyl amine ethoxylate methyl chloride.
P-14-0788 | 1/25/2016 | 1/21/2016 | (G) Complex of carboxylic acids and polyamino alcohols.
P-15-0001 | 1/18/2016 | 1/7/2016 | (S) Oxirane, 2-methyl-, polymer with oxirane, monohexadecyl ether, phosphate.
P-15-0140 | 1/15/2016 | 1/11/2016 | (S) D-glucitol, 1-deoxy-1-(methylamino)-, n-c12-14 acyl derivs.
P-15-0142 | 1/15/2016 | 1/11/2016 | (S) D-glucitol, 1-deoxy-1-(methylamino)-, n-coco acyl derivs.
P-15-0296 | 1/12/2016 | 1/11/2016 | (S) Aziridine, polymer with 1,6-diisocyanatohexane and 1,1′-methylenebis[4-isocyanatocyclohexane].
P-15-0342 | 1/27/2016 | 1/18/2016 | (G) Carboxylated styrene butadiene polymer.
P-15-0408 | 1/4/2016 | 12/28/2015 | (S) Hexanedioic acid, polymer with 1,4-butanediol, 1,3-diisocyanatomethylbenzene, 1,2-ethanediamine and 3-hydroxy-2-(hydroxymethyl)-2-methylpropanoic acid, diethanolamine-blocked.
P-15-0502 | 1/8/2016 | 12/15/2015 | (G) Perfluorobutanesulfonamide and polyoxyalkylene containing polyurethane.
P-15-0617 | 1/5/2016 | 12/23/2015 | (S) Erbium gadolinium ytterbium oxide.
P-15-0664 | 1/20/2016 | 1/6/2016 | (G) Quarternary aminosilicone-polyether copolymer.
P-15-0688 | 1/8/2016 | 12/30/2015 | (S) Ethyl tetrahydrofuran-2-carboxylate.
P-15-0698 | 1/14/2016 | 1/12/2016 | (G) Polyester- polymer of aliphatic dicarboxylic acid, alkanediol and cycloaliphatic diol.
P-15-0700 | 1/8/2016 | 12/02/2015 | (G) Vegtable oil polymer with 1,1′-methylene[isocyantobenzene], oxepanone and trimethylolpropane.
P-15-0713 | 1/26/2016 | 1/22/2016 | (G) Cellulose, polymer with substituted oxirane, 2-(diethylamino) ethyl ether.
P-15-0717 | 1/25/2016 | 1/11/2016 | (S) Oxirane, 2-methyl-, polymer with alpha-hydro-omega-hydroxypoly[oxy (methyl-1,2-ethanediyl)], oxirane and 2- [[3- (triethoxysilyl)propoxy]methyl]oxirane, diester with alpha-butyl-omega-hydroxypoly [oxy(methyl-1,2-ethanediyl)] monoester with n-[3- [(carboxyamino )methyl]-3,5 ,5-trimethylcyclohexyl)carbamic acid.
P-15-0718 | 1/25/2016 | 1/11/2016 | (S) Oxirane, 2-methyl, polymer with alpha-hydro-omega-hydroxypoly [oxy(methyl-1,2-ethanediyl)] and 2-[[3-(triethoxysilyl)propoxy]methy] oxirane, diester with alpha-butyl-omega-hydroxypoly[oxy(methyl-1,2-ethanediyl)] monoester with n-[3-[(carboxyamino)methyl]-3,5,5-trimethylcyclohexyl]carbamic acid.
P-16-0002 | 1/7/2016 | 1/7/2016 | (G) Substituted carbomonocycle, polymer with alkanediol, substituted-alkanediol, substituted heteropolycycle and heteropolycycle.
P-16-0006 | 1/7/2016 | 1/4/2016 | (G) Alkyl alkenoic acid, polymer with cycloalkyl alkyl alkenoate, substituted alkyl alkenoate, alkyl alkyl alkenoate and substituted alkyl alkenoate.
P-16-0015 | 1/7/2016 | 1/7/2016 | (S) Siloxanes and silicones, di-me, polymer with octyl silsesquioxanes and silicic acid (h4sio4) tetra-et ester.
P-16-0024 | 1/28/2016 | 1/12/2016 | (G) Alkylamine—modified silane.

Authority: 15 U.S.C. 2601 et seq.

Dated: March 9, 2016.
Pamela Myrick,
Acting Director, Information Management Division, Office of Pollution Prevention and Toxics.

[FR Doc. 2016-05970 Filed 3-15-16; 8:45 am]

BILLING CODE 6560-50-P